SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before June 27, 2000.

ADDRESSES: Send all comments regarding whether this information collection is necessary for the proper performance of the function of the agency, whether the burden estimate is accurate, and if there are ways to minimize the estimated burden and enhance the quality of the collection, to Bettie Baca, Counselor to the Administrator/Public Liaison, Office of Advisory Council, Small Business Administration, 409 3rd Street, S.W. Suite 7450.

FOR FURTHER INFORMATION CONTACT: Bettie Baca, Counselor to the Administrator/Public Liaison, 202-401-8276 or Curtis B. Rich, Management Analyst, 202-205-7030.

SUPPLEMENTARY INFORMATION: Title: “Advisory Committee Membership—Nominee Information.”

Form No: 898.

Description of Respondents: Candidates for Advisory Councils.

Annual Responses: 700.

Annual Burden: 93.

Jacqueline White,
Chief, Administrative Information Branch.

[FR Doc. 00-10556 Filed 4-27-00; 8:45 am]

BILLING CODE 8025-01-P